DEPARTMENT OF COMMERCE

Foreign-Trade Zones Board

[Order No. 1272]

Termination of Foreign-Trade Subzone 138A; Richwood, OH

Pursuant to the authority granted in the Foreign-Trade Zones Act of June 18, 1934, as amended (19 U.S.C. 81a-81u), and the Foreign-Trade Zones Board Regulations (15 CFR part 400), the Foreign-Trade Zones Board has adopted the following order:

Whereas, on July 3, 1991 the Foreign-Trade Zones Board issued a grant of authority to the Rickenbacker Port Authority (RPA), authorizing the establishment of Foreign-Trade Subzone 138A at the Wascator Manufacturing Company plant in Richwood, Ohio (Board Order 523, 56 FR 31377, July 10, 1991);

Whereas, RPA advised the Board on April 10, 2002 (FTZ Docket 3-2003), that zone procedures were no longer needed at the facility and requested voluntary termination of Subzone 138A;

Whereas, the request has been reviewed by the FTZ Staff and Customs officials, and approval has been recommended;

Now, therefore, the Foreign-Trade Zones Board terminates the subzone status of Subzone 138A, effective this date.

Signed at Washington, DC, this 21st day of March, 2003.
Joseph A. Spetrini,
Acting Assistant Secretary of Commerce for Import Administration, Alternate Chairman, Foreign-Trade Zones Board.
Attest:
Dennis Puccinelli,
Executive Secretary.

[FR Doc. 03-8236 Filed 4-3-03; 8:45 am]

BILLING CODE 3510-DS-P